DEPARTMENT OF STATE

[Public Notice 8178]

Advisory Committee on International Postal and Delivery Services

AGENCY: Department of State.

ACTION: Notice; FACA Committee meeting announcement.

SUMMARY: As required by the Federal Advisory Committee Act, Public Law 92-463, the Department of State gives notice of a meeting of the Advisory Committee on International Postal and Delivery Services. This Committee has been formed in fulfillment of the provisions of the 2006 Postal Accountability and Enhancement Act (Pub. L. 109-435) and in accordance with the Federal Advisory Committee Act.

Date and Time: The meeting will be held on Wednesday, March 6, from 10:00 a.m. to 12:00 p.m.

Location: The American Institute of Architects, Board Room, 1735 New York Avenue NW., Washington, DC 20006.

Public input: Any member of the public interested in providing public input to the meeting should contact Ms. Helen Grove, whose contact information is listed under for further information section of this notice. Each individual providing oral input is requested to limit his or her comments to five minutes. Requests to be added to the speaker list must be received in writing (letter, email or fax) prior to the close of business on March 1, 2013; written comments from members of the public for distribution at this meeting must reach Ms. Grove by letter, email or fax by this same date. A member of the public requesting reasonable accommodation should make the request to Ms. Grove by that same date.

Meeting agenda: The agenda of the meeting will include a review of the major proposals and issues to be considered by the April Postal Operations Council meeting in Bern, Switzerland, and other subjects related to international postal and delivery services of interest to Advisory Committee members and the public.

For further information, please contact Ms. Helen Grove of the Office of Global Systems (IO/GS), Bureau of International Organization Affairs, U.S. Department of State, at (202) 647-1044 or by email at GroveHA@state.gov.mailto:

Dated: January 30, 2013.
Robert Downes,
Designated Federal Officer, Department of State.

[FR Doc. 2013-02685 Filed 2-5-13; 8:45 am]

BILLING CODE 4710-19-P